DEPARTMENT OF DEFENSE

Department of the Army, Corps of Engineers

Availability of the Final Environmental Impact Statement for the Northern Integrated Supply Project, Larimer and Weld Counties, Colorado

AGENCY: Department of the Army, U.S. Army Corps of Engineers, DoD.

ACTION: Notice of availability.

SUMMARY: The U.S. Army Corps of Engineers (Corps) Omaha District has prepared a Final Environmental Impact Statement (EIS) to analyze the direct, indirect, and cumulative effects of a water supply project called the Northern Integrated Supply Project (NISP or Project) in Larimer and Weld Counties, CO. The purpose of NISP is to provide the Participants, a group of 15 water providers and communities, with approximately 40,000 acre-feet (AF) per year of new, reliable municipal water supply through a regional project coordinated by the Northern Colorado Water Conservancy District (Northern Water). NISP would result in direct impacts to jurisdictional waters of the U.S., including wetlands. The placement of fill material into waters of the U.S. requires authorization from the Corps under Section 404 of the Clean Water Act. Northern Water is the applicant for the Section 404 permit, acting on behalf of the Participants. In accordance with Section 176 of the Clean Air Act a Draft General Conformity Determination has been prepared for the Project.

DATES: Written comments on the Final EIS and the Draft General Conformity Determination will be accepted on or before September 4, 2018.

ADDRESSES: Send written comments regarding NISP, the Final EIS, and the Draft General Conformity Determination to John Urbanic, NISP EIS Project Manager, U.S. Army Corps of Engineers, Omaha District, Denver Regulatory Office, 9307 South Wadsworth Boulevard, Littleton, CO 80128, or by email to nisp.eis@usace.army.mil. Requests to be placed on or be removed from the NISP mailing list should also be sent to this address.

FOR FURTHER INFORMATION CONTACT: John Urbanic, NISP EIS Project Manager, telephone 303-979-4120, fax at 303-979-0602, or email at nisp.eis@usace.army.mil.

SUPPLEMENTARY INFORMATION: The Final EIS was prepared in accordance with the National Environmental Policy Act of 1969, as amended (NEPA), and the Corps' regulations for NEPA implementation (33 Code of Federal Regulations [CFR] Parts 230 and 325, Appendix B). The Corps, Omaha District, Denver Regulatory Office is the lead federal agency responsible for the Final EIS. Information contained in the EIS serves as the basis for a decision regarding issuance of a Section 404 Permit. It also provides information for local and state agencies that have jurisdictional responsibility for affected resources.

The Corps released a Draft EIS for NISP on April 30, 2008 and a Supplemental Draft EIS on June 19, 2015. The Corps has considered the comments received on the Draft and Supplemental Draft EIS in the development of the Final EIS. The purpose of the Final EIS is to provide decision-makers and the public with information pertaining to the Project, disclose environmental impacts of the alternatives, and identify mitigation measures to reduce impacts. In NISP, Northern Water proposes to construct Glade Reservoir with a total storage capacity of approximately 170,000 AF. The Project would also involve rehabilitating the existing diversion and intake structure in the Cache la Poudre River as well as constructing a new diversion and intake structure, forebay, pumping facility, and outlet channel. Glade Reservoir would inundate approximately 7 miles of U.S. Highway 287 and a section of the Munroe (North Poudre Supply) Canal, requiring a relocation of the highway and the canal. Northern Water also proposes to construct the South Platte Water Conservation Project (SPWCP) which includes Upper Galeton Reservoir with a total storage capacity of approximately 45,624 AF. The SPWCP includes the construction of a new diversion and intake structure in the South Platte River, pumping facilities, and new pipelines for Upper Galeton Reservoir.

This FEIS evaluates the effects of the following alternatives to NISP: Alternative 1—No Action Alternative; Alternative 2M—Glade Reservoir with modified conveyance and the South Platte Water Conservation Project (Applicant's Preferred Alternative); Alternative 2—Glade Reservoir and the South Platte Water Conservation Project; Alternative 3—Cactus Hill Reservoir, Poudre Valley Canal Diversion, and the South Platte Water Conservation Project; and Alternative 4—Cactus Hill Reservoir, with multiple diversion locations, and the South Platte Water Conservation Project.

In accordance with Section 176 of the Clean Air Act and the Environmental Protection Agency's general conformity regulations (40 CFR part 93, subpart B), a Draft General Conformity Determination has been prepared for the Project. Section 176 of the Clean Air Act requires federal agencies to ensure that their actions conform to applicable implementation plans for achieving and maintaining the National Ambient Air Quality Standards for criteria air pollutants. The Corps has prepared a Draft Conformity Determination for the Project and has included it in Chapter 4.14.7 of the Final EIS. The Draft General Conformity Determination finds that all alternatives of the Project conform with the State Implementation Plan.

The U.S. Environmental Protection Agency Region VIII, U.S. Fish and Wildlife Service, Bureau of Land Management, Colorado Department of Transportation, Colorado Department of Natural Resources, Colorado Department of Public Health and Environment, and Larimer County participated as cooperating agencies in the development of the Final EIS.

Copies of the Final EIS will be available for review at:

1. Colorado State University Morgan Library, 1201 Center Avenue, Fort Collins, CO 80521.

2. Poudre River Public Library District—Old Town Library, 201 Peterson Street, Fort Collins, CO 80524.

3. Poudre River Public Library—Harmony Library, 4616 S. Shields Street, Fort Collins, CO 80526.

4. University of Northern Colorado, James A. Michener Library, 14th Avenue and 20th Street, Greeley, CO 80639.

5. Fort Morgan Public Library, 414 Main Street, Fort Morgan, CO 80701.

6. Windsor Recreation Center, 250 11th Street, Windsor, CO 80550.

7. Northern Colorado Water Conservancy District, 220 Water Avenue, Berthoud, CO 80513.

8. U.S. Army Corps of Engineers, Denver Regulatory Office, 9307 S. Wadsworth Boulevard, Littleton, CO 80128.

Electronic copies of the Final EIS and supporting documents may be obtained from the Denver Regulatory Office or its website at: http://www.nwo.usace.army.mil/Missions/Regulatory-Program/Colorado/EIS-NISP.

Dated: July 2, 2018.
Kiel Downing,
State Regulatory Program Manager, U.S. Army Corps of Engineers, Omaha District, Denver Regulatory Office.

[FR Doc. 2018-15427 Filed 7-19-18; 8:45 am]

BILLING CODE 3720-58-P